DEPARTMENT OF VETERANS AFFAIRS

[OMB Control No. 2900-New (10-21087)]

Agency Information Collection Activities (Deployment Risk and Resilience Inventory (DRRI)) Under OMB Review

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before August 22, 2008.

ADDRESSES: Submit written comments on the collection of information through http://www.Regulations.gov; or to VA's OMB Desk Officer, OMB Human Resources and Housing Branch, New Executive Office Building, Room 10235, Washington, DC 20503 (202) 395-7316. Please refer to “OMB Control No. 2900-New (10-21087)” in any correspondence.

FOR FURTHER INFORMATION CONTACT: Denise McLamb, Records Management Service (005R1B), Department of Veterans Affairs, 810 Vermont Avenue, NW., Washington, DC 20420, (202) 461-7485, fax (202) 273-0443 or e-mail denise.mclamb@mail.va.gov. Please refer to “OMB Control No. 2900-New (10-21087).”

SUPPLEMENTARY INFORMATION: Title: Deployment Risk and Resilience Inventory (DRRI), VA Form 10-21087.

OMB Control Number: 2900-New (10-21087).

Type of Review: New collection.

Abstract: The primary goal of the DRRI project is to provide a suite of scales that will be useful to researchers and clinicians to study factors that increase or reduce risk for Post Traumatic Stress Disorder (PTSD) and other health problems that Operation Enduring Freedom/Operation Iraqi Freedom veterans experienced before, during, and after deployment.

An agency may not conduct or sponsor, and a person is not required to respond to a collection of information unless it displays a currently valid OMB control number. The Federal Register notice with a 60-day comment period soliciting comments on this collection of information was published on May 14, 2008 at pages 27896-27897.

Affected Public: Individuals or households.

Estimated Annual Burden: 1,383.

Estimated Average Burden per Respondent: 50 minutes.

Frequency of Response: On occasion.

Estimated Number of Respondents: 2,000.

Dated: July 15, 2008.
By direction of the Secretary.
Denise McLamb,
Program Analyst, Records Management Service.

[FR Doc. E8-16798 Filed 7-22-08; 8:45 am]

BILLING CODE 8320-01-P